NATIONAL SCIENCE FOUNDATION

Notice of Permit Applications Received Under the Antarctic Conservation Act of 1978 (Pub. L. 95-541)

AGENCY: National Science Foundation.

ACTION: Notice of permit applications received under the Antarctic Conservation Act of 1978, Public Law 95-541.

SUMMARY: The National Science Foundation (NSF) is required to publish notice of permit applications received to conduct activities regulated under the Antarctic Conservation Act of 1978. NSF has published regulations under the Antaric Conservation Act at Title 45 Part 670 of the Code of Federal Regulations. This is the required notice of permit applications received.

DATES: Interested parties are invited to submit written data, comments, or views with respect to this permit application by July 25, 2005. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antaric Conservation Act of 1978 (Pub. L. 95-541), as amended by the Antaric Science, Tourism and Conservation Act of 1996, has developed regulations for the establishment of a permit system for various activities in Antarctica and designation of certain animals and certain geographic areas a requiring special protection. The regulations establish such a permit system to designate Antarctic Specially Protected Areas.

The applications received are as follows:

Permit Application No. 2006-015

1. Applicant: Shane B. Kanatous, Southwestern Medical Center, University of Texas, 5323 Harry Hines Boulevard, Dallas, TX 75390-8573.

Activity for Which Permit is Requested

Take and Import into the United States. The applicant proposes to capture up to 10 each of Weddell seal newborn pups, sub adults, and adults each season to be weighed and to collect muscle samples. The samples will be returned to the U.S. for further scientific study. The applicant plans to build on his previous work that characterized the enzymatic, and ultra-structural adaptations for diving that occur in the skeletal muscles of newly weaned, juvenile and adult Weddell seals. Study results will increase understanding of both the ontogeny and molecular mechanisms by which young seals acquire the physiological capabilities to make deep (up to 700 meters) and long aerobic dives (@ min.). The study will also advance knowledge of the molecular regulation for the adaptations that enable active skeletal muscle to function under hypoxic conditions, which has broader application for human medicine especially in regards to cardiac and pulmonary disease.

Location: McMurdo Sound sea ice.

Dates: October 1, 2005 to February 28, 2008.

Permit Application No. 2006-016

2. Applicant: Wayne Z. Trivelpiece, Antarctic Ecosystem Research Division, Southwest Fisheries Science Center, 8604 La Jolla Shores Drive, La Jolla, CA 92037.

Activity for Which Permit Is Requested

Take, Enter an Antarctic Specially Protected Area, and Import into the United States. THe applicant is continuing a study of the behavioral and population biology of the Adelie, gentoo, and chinstrap penguins and the interactions of these species and their principal avian predators: skuas, gulls, sheathbills, and giant petrels. Up to 500 each of Adelie and gentoo penguin chicks and adults will be banded. Up to 50 adult penguins per species will have radio-transmitters (Txs), satellite tags (PTTs), and time-depth recorders (TDRs) attached to continue the study of the penguins' foraging habits. Up to 40 adult penguins per species will have their stomachs pumped, and data will be collected on egg sizes and adult weights for a maximum of 100 nest per species. In addition, blood, tissue and uropigial gland oil will be collected for further study.

Location: Western Shore of Admiralty Bay, King George Island (ASPA #128) and Lion's Rump, King George Island (ASPA #151).

Dates: October 1, 2005 to April 1, 2010.

Nadene G. Kennedy,
Permit Officer, Office of Polar Programs.

[FR Doc. 05-12543 Filed 6-23-05; 8:45 am]

BILLING CODE 7555-01-M